DEPARTMENT OF THE INTERIOR

Fish and Wildlife Service

Take of Migrant Peregrine Falcons in the United States for Use in Falconry

AGENCY: Fish and Wildlife Service, Interior.

ACTION: Notice of availability.

SUMMARY: This notice is to announce the availability of a Draft Environmental Assessment and Management Plan (DEA) for take of migrant peregrine falcons (Falco peregrinus) in the United States for use in falconry.

DATES: Comments on the Draft Environmental Assessment and Management Plan are due by February 11, 2008.

ADDRESSES: The document is available from, and written comments about it should be submitted to, Chief, Division of Migratory Bird Management, U.S. Fish and Wildlife Service, 4401 North Fairfax Drive, Room 634, Arlington, VA 22203-1610. The fax number for a request or for comments is 703-358-2272. You can request a copy of the DEA by calling 703-358-1714. The DEA also is available on the Division of Migratory Bird Management Web site at http://www.fws.gov/migratorybirds/.

FOR FURTHER INFORMATION CONTACT: Dr. George Allen, Division of Migratory Bird Management, U.S. Fish and Wildlife Service, at 703-358-1714.

SUPPLEMENTARY INFORMATION: The peregrine falcon is found almost worldwide. It is found throughout much of North America from the subarctic boreal forests of Alaska and Canada south to Mexico. The Arctic peregrine falcon (F. p. tundrius) nests in the tundra of Alaska, Canada, and Greenland, and is typically a long-distance migrant, wintering as far south as South America. The American peregrine falcon (F. p. anatum) occurs throughout much of North America from the subarctic boreal forests of Alaska and Canada south to Mexico. The American peregrine falcon nests from central Alaska, central Yukon Territory, and northern Alberta and Saskatchewan, east to the Maritimes and south throughout western Canada and the United States to Baja California, Sonora, and the highlands of central Mexico. However, it is not found in areas of the Pacific Northwest occupied by the Peales's peregrine falcon (F. p. pealei), a year-round resident of the northwest Pacific coast from northern Washington to the Aleutian Islands.

Peregrine falcons declined precipitously in North America following World War II, a decline attributed largely to organochlorine pesticides, mainly DDT, applied in the United States and Canada. Because of the decline, we listed the Arctic and American peregrine falcon subspecies were listed as endangered under the Endangered Species Act (16 U.S.C. 1531 et seq. on October 13, 1970 (35 FR 16047).

We removed the Arctic peregrine from the Federal List of Endangered and Threatened Wildlife on October 5, 1994 (59 FR 50796) but still regulated this species under the Act in the contiguous U.S. due to the similarity of appearance provision for all peregrine falcons; the American peregrine falcon remained listed as endangered. However, on August 25, 1999, we removed the American peregrine from the list (64 FR 46541) because the subspecies had considerably exceeded the recovery goals set for it in most areas.

Anticipating delisting, in June 1999, the States, through the International Association of Fish and Wildlife Agencies, had proposed allowing take of migrant peregrines for falconry. In an October 4, 1999, Federal Register notice (64 FR 53686), we stated that we would consider a conservative level of take of migrant peregrine falcons in the United States. The DEA we announce in this notice is required as part of our consideration of allowing the take of migrant peregrines.

In the DEA, we considered six alternatives to address potential take of migrant peregrine falcons in the United States and Alaska. Under the No-Action Alternative, no legal take of migrant peregrine falcons for falconry could occur. We also evaluated alternatives that would allow take in different locations and at different times.

The preferred alternative is to allow take of peregrine falcons between September 20th and October 20th from areas of the continental areas south of 31degrees North latitude and east of 100 degrees West longitude, and within the State of Alaska. The allowed take would be consistent with management goals outlined in the DEA, and would be very unlikely to have negative effects on any portion of the populations of peregrine falcons in North America or Greenland.

Most of the alternatives would require reductions in the allowed take of nestling American peregrine falcons in the 12 western States in which it is allowed. We propose to allow the decisions on allocation of the reduced take of nestlings to the States themselves, with the recommendations made through the Flyway Councils.

Kenneth Stansell,
Acting Director, U.S. Fish and Wildlife Service.

[FR Doc. E7-21936 Filed 11-9-07; 8:45 am]

BILLING CODE 4310-55-P